NATIONAL SCIENCE FOUNDATION

Advisory Committee for Social, Behavioral and Economic Sciences; Notice of Meeting

In accordacne with the Federal Advisory Committee Act (Pub. L. 92-463, as amended), the National Science Foundation announces the following meeting.

Name: Advisory Committee for Social, Behavioral, and Economic Sciences, (ACSBE) (#1171).

Date & Time: December 12, 2002 8:30 a.m.—5 p.m., December 13, 2002 8:30 a.m.—12:30 p.m.

Place: National Science Foundation, 4201 Wilson Boulevard, Arlington, VA 22230.

Type of Meeting: Open.

Contact Person: Dr. Sally Kane, Senior Advisor, ACSBE, Directorate for Social, Behavioral, and Economic Sciences, National Science Foundation, 4201 Wilson Boulevard, Room 905, Arlington, VA 22230, 703-292-8741.

Summary Minutes: May be obtained from contact person listed above.

Purpose of Meeting: To provide advice and recommendations to the National Science Foundation on major goals and policies pertaining to Social, Behavioral and Economic Sciences Directorate programs and activities.

Agenda: Discussion on issues, role and future direction of the Directorate for Social, Behavioral, and Economic Sciences.

Note: Visitors from outside of NSF should call (703)292-8741 to arrange for a vistitor's badge in order to facilitate getting into the building.

Dated: October 29, 2002.
Susanne Bolton,
Committee Management Officer.

[FR Doc. 02-27906 Filed 11-1-02; 8:45 am]

BILLING CODE 7555-01-M